DEPARTMENT OF JUSTICE

Notice of Lodging of Consent Decree Pursuant to the Comprehensive Environmental Response, Compensation, and Liability Act

Notice is hereby given that on February 25, 2011, a proposed consent decree in United States v. SKF USA Inc., Crane Co., and Osram Sylvania, Inc., Civil Action No. 3:09-cv-00174, was lodged with the United States District Court for the Western District of Pennsylvania.

The proposed consent decree resolves claims that the United States filed under Section 107 of CERCLA, 42 U.S.C. 9607, for reimbursement of costs incurred and to be incurred in connection with response actions at the Barefoot Disposal Site (“Site”) in Blair County, Pennsylvania. Under the proposed consent decree, the Settling Defendants, SKF USA Inc., Crane Co., and Osram Sylvania, Inc., will reimburse the United States $575,000 for past response costs and limited future response costs.

The Department of Justice will receive, for a period of thirty (30) days from the date of this publication comments relating to the proposed consent decree. Comments should be addressed to the Assistant Attorney General, Environment and Natural Resources Division, and either emailed to pubcomment-ees.enrd@usdoj.gov or mailed to P.O. Box 7611, U.S. Department of Justice, Washington, DC 20044-7611, and should refer to United States v. SKF USA Inc., Crane Co., and Osram Sylvania, Inc., DOJ No. 90-11-3-09307.

The proposed consent decree may be examined at the office of the United States Attorney's Office, 700 Grant Street, Suite 4000, Pittsburgh, PA 15219, and at U.S. EPA Region III, 1650 Arch Street, Philadelphia, PA 19103. During the public comment period, the proposed consent decree may also be examined on the following Department of Justice Web site, http://www.usdoj.gov/endr/Consent_Decrees.html. A copy of the proposed consent decree may be obtained in person or by mail from the Consent Decree Library, P.O. Box 7611, U.S. Department of Justice, Washington, DC 20044-7611 or by faxing or e-mailing a request to Tonia Fleetwood (tonia.fleetwood@usdoj.gov), fax no. (202) 514-0097, phone confirmation number (202) 514-1547. In requesting a copy from the Consent Decree Library, please enclose a check in the amount of $25.00 (25 cents per page reproduction cost) payable to the U.S. Treasury or, if by e-mail or fax, forward a check in that amount to the Consent Decree Library at the stated address.

Maureen Katz,
Assistant Section Chief, Environmental Enforcement Section, Environment & Natural Resources Division.

[FR Doc. 2011-4718 Filed 3-2-11; 8:45 am]

BILLING CODE 4410-15-P